DEPARTMENT OF ENERGY

Federal Energy Regulatory Commission

Combined Notice of Filings

Take notice that the Commission has received the following Natural Gas Pipeline Rate and Refund Report filings:

Filings Instituting Proceedings

Docket Number: PR18-58-000.

Applicants: Enable Oklahoma Intrastate Transmission, LLC.

Description: Tariff filing per 284.123(b),(e)+(g): EOIT Revised SOC July 2018 to be effective 7/13/2018.

Filed Date: 6/13/18.

Accession Number: 201806135084.

Comments Due: 5 p.m. ET 7/5/18.

284.123(g) Protests Due: 5 p.m. ET8/13/18.

Docket Number: PR18-59-000.

Applicants: Kinder Morgan Tejas Pipeline LLC.

Description: Tariff filing per 284.123(b)(2)+(: Petition for Approval of Market-Based Rates to be effective 10/1/2018.

Filed Date: 6/15/18.

Accession Number: 201806155106.

Comments/Protests Due: 5 p.m. ET7/6/18.

Docket Numbers: RP18-897-000.

Applicants: Gulf South Pipeline Company, LP.

Description: § 4(d) Rate Filing: Revise Interruptible Pro Forma Agreements to be effective 7/16/2018.

Filed Date: 6/15/18.

Accession Number: 20180615-5018.

Comments Due: 5 p.m. ET 6/27/18.

Docket Numbers: RP18-898-000.

Applicants: Gulf Crossing Pipeline Company LLC.

Description: § 4(d) Rate Filing: Revise Rate Schedules to Provide Multiple Evergreen Option to be effective 7/16/2018.

Filed Date: 6/15/18.

Accession Number: 20180615-5019.

Comments Due: 5 p.m. ET 6/27/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 18, 2018.
Kimberly D. Bose,
Secretary.

[FR Doc. 2018-13493 Filed 6-22-18; 8:45 am]

BILLING CODE 6717-01-P